DEPARTMENT OF AGRICULTURE

Agricultural Research Service

Advisory Committee on Biotechnology and 21st Century Agriculture; Nominations

AGENCY: Office of the Under Secretary, Research, Education, and Economics, USDA.

ACTION: Advisory Committee on Biotechnology and 21st Century Agriculture; nominations.

SUMMARY: The Agricultural Research Service is requesting nominations for qualified persons to serve as members of the Secretary's Advisory Committee on Biotechnology and 21st Century Agriculture (ACBTCA).

DATES: Written nominations must be received by fax or postmarked on or before February 28, 2002.

ADDRESSES: All nomination materials should be sent to Michael Schechtman, Designated Federal Official, Office of the Deputy Secretary, USDA, 202B Jamie L. Whitten Federal Building, 14th and Independence Avenue, SW, Washington, DC 20250. Forms may also be submitted by fax to (202) 690-4265.

FOR FURTHER INFORMATION CONTACT: Questions should be addressed to Michael Schechtman, Designated Federal Official, telephone (202) 720-3817; fax (202) 690-4265; email mschechtman@ars.usda.gov. To obtain form AD-755 ONLY please contact Vanessa Simon, Office of Pest Management Policy, telephone (202) 690-8647, fax (202) 690-4265; email vsimon@ars.usda.gov.

SUPPLEMENTARY INFORMATION: Advisory Committee Purpose: USDA supports the responsible development and application of biotechnology within the global food and agricultural system. Biotechnology intersects many of the policies, programs and functions of USDA. The charge for the ACBCTA shall be two-fold: to examine the long-term impacts of biotechnology on the U.S. food and agriculture system and USDA; and to provide guidance to USDA on pressing individual issues, identified by the Office of the Secretary, related to the application of biotechnology in agriculture. The ACBTCA replaces the USDA Advisory Committee on Agricultural Biotechnology. The ACBTCA will meet in Washington, DC, up to four (4) times per year.

Membership: Members of the ACBTCA should have recognized expertise in one or more of the following areas: recombinant-DNA (rDNA) research and applications using plants; rDNA research and applications using animals; rDNA research and applications using microbes; food science; silviculture and related forest science; fisheries science; ecology; veterinary medicine; the broad range of farming or agricultural practices; weed science; plant pathology; biodiversity; applicable laws and regulations relevant to agricultural biotechnology policy; risk assessment; consumer advocacy and public attitudes; public health/epidemiology; ethics, including bioethics; human medicine; biotechnology industry activities and structure; intellectual property rights systems; and international trade. Members will be selected by the Secretary of Agriculture in order to achieve a balanced representation of viewpoints to address effectively USDA biotechnology policy issues under consideration.

Nominations for ACBTCA membership must be in writing and provide the appropriate background documents required by USDA policy, including background disclosure form AD-755. Neither the form nor the information it contains may be released to the public, except as authorized by law.

No member may serve on the ACBTCA for more than six consecutive years. Nominees will initially serve for terms of 1 or 2 years for purposes of continuity.

Members of the ACBTCA and its subcommittees shall serve without pay, but with reimbursement of travel expenses and per diem for attendance at ACBTCA and subcommittee functions for those ACBTCA members who require assistance in order to attend the meetings. While away from home or their regular place of business, those members will be eligible for travel expenses paid by REE, USDA, including per diem in lieu of subsistence, at the same rate as a person employed intermittently in the government service is allowed under Section 5703 of Title 5, United States Code.

Submitting Nominations: Nominations should be typed and include the following:

1. A brief summary of no more than two (2) pages explaining the nominee's suitability to serve on the ACBTCA.

2. A resume or curriculum vitae.

3. A completed copy of form AD-755.

Nominations should be sent to Michael Schechtman at the address listed above, and be post marked no later than February 28, 2002.

USDA is actively soliciting nominations of qualified minorities, women, persons with disabilities and members of low income populations. To ensure that recommendations of the ACBTCA take into account the needs of underserved and diverse communities served by the USDA, membership shall include, to the extent practicable, individuals with demonstrated ability to represent minorities, women, and persons with disabilities.

Dated: January 18, 2002.
Joseph Jen,
Under Secretary for Research, Education and Economics.

[FR Doc. 02-2135 Filed 1-28-02; 8:45 am]

BILLING CODE 3410-03-P